DEPARTMENT OF AGRICULTURE

Forest Service

Newspapers Used for Publication of Legal Notices by the Intermountain Region; Utah, Idaho, Nevada, and Wyoming

AGENCY: Forest Service, USDA.

ACTION: Notice.

SUMMARY: This notice lists the newspapers that will be used by the ranger districts, forests and regional office of the Intermountain Region to publish legal notices required under 36 CFR 215, 217, and 218. The intended effect of this action is to inform interested members of the public which newspapers the Forest Service will use to publish notices of proposed actions and notices of decision. This will provide the public with constructive notice of Forest Service proposals and decisions, provide information on the procedures to comment or appeal, and establish the date that the Forest Service will use to determine if comments or appeals were timely.

DATES: Publication of legal notices in the listed newspapers will begin on or after October 1, 2005. The list of newspapers will remain in effect until April 1, 2006, when another notice will be published in the Federal Register.

FOR FURTHER INFORMATION CONTACT: Priscilla McLain, Regional Appeals Coordinator, Intermountain Region, 324 25th Street, Ogden, UT 84401, and phone (801) 625-5146.

SUPPLEMENTARY INFORMATION: The administrative procedures at 36 CFR 215, 217, and 218 require the Forest Service to publish notices in a newspaper of general circulation. The content of the notices is specified in 36 CFR 215, 217 and 218. In general, the notices will identify: the decision or project, by title or subject matter; the name and title of the official making the decision; how to obtain additional information; and where and how to file comments or appeals. The date the notice is published will be used to establish the official date for the beginning of the comment or appeal period. The newspapers to be used are as follows:

Regional Forester, Intermountain Region

For decisions made by the Regional Forester affecting National Forests in Idaho:

Idaho Statesman, Boise, Idaho

For decisions made by the Regional Forester affecting National Forests in Nevada:

Reno Gazette-Journal, Reno, Nevada

For decisions made by the Regional Forester affecting National Forests in Wyoming:

Casper Star-Tribune, Casper, Wyoming

For decisions made by the Regional Forester affecting National Forests in Utah:

Salt Lake Tribune, Salt Lake City, Utah

For decisions made by the Regional Forester that affect all National Forests in the Intermountain Region.

Salt Lake Tribune, Salt Lake City, Utah

Ashley National Forest

Ashley Forest Supervisor decisions:

Vernal Express, Vernal, Utah

Duchesne District Ranger decisions:

Uinta Basin Standard, Roosevelt, Utah

Flaming Gorge District Ranger for decisions affecting Wyoming:

Rocket Miner, Rock Springs, Wyoming

Flaming Gorge District Ranger for decisions affecting Utah:

Vernal Express, Vernal, Utah

Roosevelt District Ranger decisions:

Uinta Basin Standard, Roosevelt, Utah

Vernal District Ranger decisions:

Vernal Express, Vernal, Utah

Boise National Forest

Boise Forest Supervisor decisions:

Idaho Statesman, Boise, Idaho

Cascade District Ranger decisions:

Long Valley Advocate, Cascade, Idaho

Emmett District Ranger decisions:

Messenger-Index, Emmett, Idaho

Idaho City District Ranger decisions:

Idaho Statesman, Boise, Idaho

Lowman District Ranger decisions:

Idaho World, Garden Valley, Idaho

Mountain Home District Ranger decisions:

Idaho Statesman, Boise, Idaho

Bridger-Teton National Forest

Bridger-Teton Forest Supervisor decisions:

Casper Star-Tribune, Casper, Wyoming

Big Piney District Ranger decisions:

Casper Star-Tribune, Casper, Wyoming

Buffalo District Ranger decisions:

Casper Star-Tribune, Casper, Wyoming

Greys River District Ranger decisions:

Casper Star-Tribune, Casper, Wyoming

Jackson District Ranger decisions:

Casper Star-Tribune, Casper, Wyoming

Kemmerer District Ranger decisions:

Casper Star-Tribune, Casper, Wyoming

Pinedale District Ranger decisions:

Casper Star-Tribune, Casper, Wyoming

Caribou-Targhee National Forest

Caribou-Targhee Forest Supervisor decisions for the Caribou portion:

Idaho State Journal, Pocatello, Idaho

Caribou-Targhee Forest Supervisor decisions for the Targhee portion:

Post Register, Idaho Falls, Idaho

Ashton District Ranger decisions:

Post Register, Idaho Falls, Idaho

Dubois District Ranger decisions:

Post Register, Idaho Falls, Idaho

Island Park District Ranger decisions:

Post Register, Idaho Falls, Idaho

Montpelier District Ranger decisions:

Idaho State Journal, Pocatello, Idaho

Palisades District Ranger decisions:

Post Register, Idaho Falls, Idaho

Soda Springs District Ranger decisions:

Idaho State Journal, Pocatello, Idaho

Teton Basin District Ranger decisions:

Post Register, Idaho Falls, Idaho

Westside District Ranger decisions:

Idaho State Journal, Pocatello, Idaho

Dixie National Forest

Dixie Forest Supervisor decisions:

Daily Spectrum, St. George, Utah

Cedar City District Ranger decisions:

Daily Spectrum, St. George, Utah

Escalante District Ranger decisions:

Daily Spectrum, St. George, Utah

Pine Valley District Ranger decisions:

Daily Spectrum, St. George, Utah

Powell District Ranger decisions:

Daily Spectrum, St. George, Utah

Teasdale District Ranger decisions:

Richfield Reaper, Richfield, Utah

Fishlake National Forest

Fishlake Forest Supervisor decisions:

Richfield Reaper, Richfield, Utah

Beaver District Ranger decisions:

Richfield Reaper, Richfield, Utah

Fillmore District Ranger decisions:

Richfield Reaper, Richfield, Utah

Loa District Ranger decisions:

Richfield Reaper, Richfield, Utah

Richfield District Ranger decisions:

Richfield Reaper, Richfield, Utah

Humboldt-Toiyabe National Forests

Humboldt-Toiyabe Forest Supervisor decisions for the Humboldt portion:

Elko Daily Free Press, Elko, Nevada

Humboldt-Toiyabe Forest Supervisor decisions for the Toiyabe portion:

Reno Gazette-Journal, Reno, Nevada

Austin District Ranger decisions:

The Battle Mountain Bugle, Battle Mountain, Nevada

Bridgeport District Ranger decisions:

Mammoth Times, Mammoth Lakes, California

Carson District Ranger decisions:

Reno Gazette-Journal, Reno, Nevada

Ely District Ranger decisions:

The Ely Times, Ely, Nevada

Jarbidge District Ranger decisions:

Elko Daily Free Press, Elko, Nevada

Mountain City District Ranger decisions:

Elko Daily Free Press, Elko, Nevada

Ruby Mountains District Ranger decisions:

Elko Daily Free Press, Elko, Nevada

Santa Rosa District Ranger decisions:

Humboldt Sun, Winnemucca, Nevada

Spring Mountains National Recreation Area District Ranger decisions:

Las Vegas Review Journal, Las Vegas, Nevada

Tonopah District Ranger decisions:

Tonopah Times Bonanza-Goldfield News, Tonopah, Nevada

Manti-Lasal National Forest

Manti-LaSal Forest Supervisor decisions:

Sun Advocate, Price, Utah

Ferron District Ranger decisions:

Emery County Progress, Castle Dale, Utah

Moab District Ranger decisions:

Times Independent, Moab, Utah

Monticello District Ranger decisions:

San Juan Record, Monticello, Utah

Price District Ranger decisions:

Sun Advocate, Price, Utah

Sanpete District Ranger decisions:

Sanpete Messenger, Manti, Utah

Payette National Forest

Payette Forest Supervisor decisions:

Idaho Statesman, Boise, Idaho

Council District Ranger decisions:

Adams County Record, Council, Idaho

Krassel District Ranger decisions:

Star News, McCall, Idaho

McCall District Ranger decisions:

Star News, McCall, Idaho

New Meadows District Ranger decisions:

Star News, McCall, Idaho

Weiser District Ranger decisions:

Signal American, Weiser, Idaho

Salmon-Challis National Forest

Salmon-Challis Forest Supervisor decisions for the Salmon portion:

The Recorder-Herald, Salmon, Idaho

Salmon-Challis Forest Supervisor decisions for the Challis portion:

The Challis Messenger, Challis, Idaho

Challis District Ranger decisions:

The Challis Messenger, Challis, Idaho

Leadore District Ranger decisions:

The Recorder-Herald, Salmon, Idaho

Lost River District Ranger decisions:

The Challis Messenger, Challis, Idaho

Middle Fork District Ranger decisions:

The Challis Messenger, Challis, Idaho

North Fork District Ranger decisions:

The Recorder-Herald, Salmon, Idaho

Salmon/Cobalt District Ranger decisions:

The Recorder-Herald, Salmon, Idaho

Yankee Fork District Ranger decisions:

The Challis Messenger, Challis, Idaho

Sawtooth National Forest

Sawtooth Forest Supervisor decisions:

The Times News, Twin Falls, Idaho

Fairfield District Ranger decisions:

The Times News, Twin Falls, Idaho

Ketchum District Ranger decisions:

Idaho Mountain Express, Ketchum, Idaho

Minidoka District Ranger decisions:

The Times News, Twin Falls, Idaho

Sawtooth National Recreation Area:

The Challis Messenger, Challis, Idaho

Uinta National Forest

Uinta Forest Supervisor decisions:

The Daily Herald, Provo, Utah

Heber District Ranger decisions:

The Daily Herald, Provo, Utah

Pleasant Grove District Ranger decisions:

The Daily Herald, Provo, Utah

Spanish Fork District Ranger decisions:

The Daily Herald, Provo, Utah

Wasatch-Cache National Forest

Wasatch-Cache Forest Supervisor decisions:

Salt Lake Tribune, Salt Lake City, Utah

Evanston District Ranger decisions:

Uinta County Herald, Evanston, Wyoming

Kamas District Ranger decisions:

Salt Lake Tribune, Salt Lake City, Utah

Logan District Ranger decisions:

Logan Herald Journal, Logan, Utah

Mountain View District Ranger decisions:

Uinta County Herald, Evanston, Wyoming

Ogden District Ranger decisions:

Ogden Standard Examiner, Ogden, Utah

Salt Lake District Ranger decisions:

Salt Lake Tribune, Salt Lake City, Utah

Dated: October 11, 2005.
Stephen J. Solem,
Acting Deputy Regional Forester.

[FR Doc. 05-20691 Filed 10-14-05; 8:45 am]

BILLING CODE 3410-11-P